DEPARTMENT OF JUSTICE

Office of Justice Programs

[OJP (OJJDP) Docket No. 1468]

Meeting of the Federal Advisory Committee on Juvenile Justice

AGENCY: Office of Juvenile Justice and Delinquency Prevention, Office of Justice Programs, Justice.

ACTION: Notice of meeting.

SUMMARY: The Office of Juvenile Justice and Delinquency Prevention (OJJDP) is announcing the spring meeting of the Federal Advisory Committee on Juvenile Justice (FACJJ), which will be held in Washington, DC on April 23-24, 2007. The meeting times and location are noted below.

DATES: The schedule of events is as follows:

1. Sunday, April 22, 2007, 4 p.m. to 6 p.m.

2. Monday, April 23, 2007, 8:30 a.m. to 5 p.m.

3. Tuesday, April 24, 2007, 8:30 a.m. to 12:30 p.m.

ADDRESSES: All open meeting sessions will take place at the Office of Justice Programs, 810 Seventh Street, NW., main conference room, Washington, DC 20531.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to Section 3(2)A of the Federal Advisory Committee Act (5 U.S.C. App.2) will meet to carry out its advisory functions under Section 223(f)(2)(C-E) of the Juvenile Justice and Delinquency Prevention Act of 2002. The FACJJ is composed of one representative from each state and territory. FACJJ duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information, including a member list, may be found at http://www.facjj.org.

Meeting Agenda

1. Sunday, April 22, 2007

• 4 p.m.-6 p.m. New Member Orientation. (Closed Session).

2. Monday, April 23, 2007

• 8:30 a.m.-9:15 a.m. Call to Order by the Chair of the FACJJ and Remarks by the Administrator of OJJDP (Open Session).

• 9:15 a.m.-12 p.m. and 1:30 p.m.-5 p.m. Review, Discussion and Deliberation of the 2007 Draft Reports to the President, Congress, and the Administrator of OJJDP (Open Session).

• 12 p.m.-1:30 p.m. Subcommittee Meetings (Closed Sessions).

3. Tuesday, April 23, 2007

• 8:30 a.m.-12:30 p.m. Continuation of Review, Discussion and Deliberation of the 2007 Draft Reports; Presentations and Discussions concerning Effective Legal Counsel; and Other Business (Open Session).

For security purposes, members of the public who wish to attend open sessions of the meeting should register by sending an e-mail with their name, affiliation, address, phone number, and a list of sessions they plan to attend to ddunston@edjassociates.com. If e-mail is not available, fax this information to 240-221-4006, attention: Daryel Dunston. Because space is limited, notification of intent to attend should be sent by April 16, 2007.

Note: Photo identification will be required for admission to the meeting. Additional identification documents may be required. Space is limited.

Written Comments

Interested parties may submit written comments by Monday, April 16, 2007, to Robin Delany-Shabazz, Designated Federal Official for the Federal Advisory Committee on Juvenile Justice, OJJDP, at Robin.Delany-Shabazz@usdoj.gov. If e-mail is not available, fax your comments to 202-354-4063 and call Francesca Stern at 202-616-3551 to ensure fax was received. [Note: These are not toll-free numbers.] No oral presentations will be permitted at the meeting. However, written questions and comments from members of the public attending the meeting may be invited.

J. Robert Flores,
Administrator, Office of Juvenile Justice and Delinquency Prevention.

[FR Doc. E7-5544 Filed 3-26-07; 8:45 am]

BILLING CODE 4410-18-P